DEPARTMENT OF COMMERCE

International Trade Administration

University of Minnesota; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW., Washington, DC.

Docket Number: 14-002. Applicant: University of Minnesota, St. Paul, MN 55108. Instrument: Anaerobic glovebox for crystallography. Manufacturer: Belle Technology UK Ltd., Great Britain. Intended Use: See notice at 79 FR 11759-60, March 3, 2014. Comments: None received. Decision: Approved. We know of no instruments of equivalent scientific value to the foreign instruments described below, for such purposes as this is intended to be used, that was being manufactured in the United States at the time of order. Reasons: The instrument will be used to study the growth of crystals of oxygen-sensitive proteins and trapping of catalytic intermediates in crystals of enzymes which utilize oxygen as a substrate. The objective is to produce atomic resolution molecular structures of oxygen-sensitive or oxygen-dependent proteins by x-ray crystallography. The necessary features of this instrument include an entry port in the floor of the microscope box that forms an air-tight seal with a two liter liquid nitrogen dewar mated to the port from outside the box. Air needs to be expelled (purged) from above the liquid nitrogen surface and replaced with gaseous nitrogen. Closure of the port allows removal of the dewar. An air-tight door between the larger anaerobic crystallization box and the anaerobic microscope box is also necessary.

Dated: May 13, 2014.
Gregory W. Campbell,
Director, Subsidies Enforcement Office, Enforcement and Compliance.

[FR Doc. 2014-11784 Filed 5-20-14; 8:45 am]

BILLING CODE 3510-DS-P